DEPARTMENT OF THE INTERIOR

Bureau of Indian Affairs

Rate Adjustments for Indian Irrigation Projects; Correction

AGENCY: Bureau of Indian Affairs, Interior.

ACTION: Notice of proposed rate adjustments; correction.

SUMMARY: The Bureau of Indian Affairs (BIA) published a notice in the Federal Register of March 8, 2002, seeking comments on proposed rate adjustments for irrigation projects. The notice contained incorrect current and proposed rates for the Wapato Irrigation Project units in the Northwest Region Rate Table.

DATES: Interested parties may send comments for the Wapato Irrigation Project units on or before June 25, 2002. The comment period for all other BIA irrigation projects published in the March 8, 2002 notice remains May 7, 2002.

FOR FURTHER INFORMATION CONTACT: Pierce Harrison, Project Administrator, Wapato Irrigation Project, P.O. Box 220, Wapato, WA 98951-0220; Telephone: (509) 877-3155.

Correction

In the Federal Register issue of March 8, 2002, page 10751, correct the Wapato Irrigation Project units portion of the Northwest Region Rate Table to read:

Northwest Region Rate Table
Project name | Rate category | Current 2001 rate | Proposed 2002 rate
Wapato Irrigation Project * Ahtanum | Billing Charge Per Tract | $5.00 | $5.00
| Farm unit/land tracts up to one acre (minimum charge) | 10.00 | 10.35
| Farm unit/land tracts over one acre—per acre | 10.00 | 10.35
Wapato Irrigation Project * Toppenish/Simcoe | Billing Charge Per Tract | 5.00 | 5.00
| Farm unit/land tracts up to one acre (minimum charge) | 10.00 | 10.40
| Farm Unit/land tracts over one acre-per acre | 10.00 | 10.40
Wapato Irrigation Project * Wapato/Satus | Billing Charge Per Tract | 5.00 | 5.00
| Farm unit/land tracts up to one acre (minimum charge) | 40.00 | 41.40
| “A” farm unit/land tracts over one acre—per acre | 40.00 | 41.40
| Additional Works farm unit/land tracts over one acre—per acre | 44.00 | 45.76
| “B” farm unit/land tracts over one acre— per acre | 48.00 | 49.68
| Water Rental Agreement Lands—per acre | 49.00 | 50.96

Dated: April 9, 2002.
Neal A. McCaleb,
Assistant Secretary—Indian Affairs.

[FR Doc. 02-10263 Filed 4-25-02; 8:45 am]

BILLING CODE 4310-5M-P